DEPARTMENT OF TRANSPORTATION

Federal Aviation Administration

14 CFR Part 39

[Docket No. 2002-NM-201-AD]

RIN 2120-AA64

Airworthiness Directives; Airbus Model A319-111, -112, -113, and -114; A320-111, -211, -212, and -214; and A321-111, -112, and -211 Series Airplanes

AGENCY: Federal Aviation Administration, DOT.

ACTION: Notice of proposed rulemaking (NPRM).

SUMMARY: This document proposes the adoption of a new airworthiness directive (AD) that is applicable to certain Airbus Model A319, A320, and A321 series airplanes. This proposal would require a one-time inspection to identify the serial number of the actuator of the thrust reverser blocker door, and corrective action if necessary. This action is necessary to prevent inadvertent deployment of the thrust reverser door, which could result in reduced controllability of the airplane. This action is intended to address the identified unsafe condition.

DATES: Comments must be received by April 12, 2004.

ADDRESSES: Submit comments in triplicate to the Federal Aviation Administration (FAA), Transport Airplane Directorate, ANM-114, Attention: Rules Docket No. 2002-NM-201-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-201-AD” in the subject line and need not be submitted in triplicate. Comments sent via the Internet as attached electronic files must be formatted in Microsoft Word 97 or 2000 or ASCII text.

The service information referenced in the proposed rule may be obtained from Rohr, Inc., 850 Lagoon Drive, Chula Vista, California 91910-2098. This information may be examined at the FAA, Transport Airplane Directorate, 1601 Lind Avenue, SW., Renton, Washington.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-201-AD.” The postcard will be date stamped and returned to the commenter.

Availability of NPRMs

Any person may obtain a copy of this NPRM by submitting a request to the FAA, Transport Airplane Directorate, ANM-114, Attention: Rules Docket No. 2002-NM-201-AD, 1601 Lind Avenue, SW., Renton, Washington 98055-4056.

Discussion

The Direction Générale de l'Aviation Civile (DGAC), which is the airworthiness authority for France, notified the FAA that an unsafe condition may exist on certain Airbus Model A319, A320, and A321 series airplanes. The DGAC advises that, during routine maintenance on the actuator of a thrust reverser blocker door, the chrome plating on the piston rod was found to extend up to the hydraulic feed holes. The actuator supplier discovered this quality concern and identified numerous suspect units during rework. The overextended chrome plating could contribute to decreased fatigue capability of the actuator and, in combination with other misrigging problems, could result in an inadvertent thrust reverser door deployment and consequent reduced controllability of the airplane.

Explanation of Relevant Service Information

The actuator manufacturer has issued Rohr CFM56-5A/-5B Service Bulletin RA32078-112, Revision 1, dated February 6, 2002, which describes procedures for inspecting the actuator (part number D23090000-6) of the thrust reverser blocker door to identify the serial number, and replacing affected actuators with reworked actuators. Accomplishment of the actions specified in the service bulletin is intended to adequately address the identified unsafe condition. The DGAC classified this service bulletin as mandatory and issued French airworthiness directive 2002-337(B) R1, dated July 24, 2002, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletin described previously, except as discussed below.

Difference Between Proposed AD and French Airworthiness Directive

The applicability of the French airworthiness directive excludes airplanes on which the particular actuator has never been overhauled by TRW—Lucas Repair Center. U.S. operators are required to maintain records of only the date of overhaul—not the identity of the facility doing the overhaul. Therefore, this proposed AD would require inspection of all actuators having the particular part number, unless the maintenance records positively determine that TRW has never overhauled that actuator.

Cost Impact

We estimate that 551 airplanes of U.S. registry would be affected by this proposed AD. It would take about 4 work hours per airplane to identify the actuator part numbers, at an average labor rate of $65 per work hour. Based on these figures, the cost impact of the proposed AD on U.S. operators is estimated to be $143,260, or $260 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to plan, gain access and close up, or perform other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2002-NM-201-AD.

Applicability: Model A319-111, -112, -113, and -114; A320-111, -211, -212, and -214; and A321-111, -112, and -211 series airplanes; certificated in any category; powered by CFM56-5A or -5B engines having any thrust reverser blocker door actuator part number D23090000-6.

Compliance: Required as indicated, unless accomplished previously.

To prevent inadvertent deployment of the thrust reverser door, which could result in reduced controllability of the airplane, accomplish the following:

Repair History

(a) If, from a review of the maintenance records, it can be positively determined that the thrust reverser blocker door actuator was never overhauled by “TRW—Lucas Repair Center—Englewood, New Jersey,” then no further work is required by this AD.

Inspection

(b) Before the actuator of the thrust reverser blocker door accumulates 7,000 total flight cycles since its last overhaul, or within 500 flight hours after the effective date of this AD, whichever occurs later: Do a general visual inspection to identify the part number and serial number of the actuator, in accordance with Rohr CFM56-5A/-5B Service Bulletin RA32078-112, Revision 1, dated February 6, 2002. Look for affected serial numbers as listed in paragraph 1.A(1) of the service bulletin.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(1) If no affected serial number is found, no more work is required by this paragraph.

(2) If any affected serial number is found: Before further flight, replace the affected actuator with a reworked part in accordance with the service bulletin.

(c) An inspection and rework done before the effective date of this AD in accordance with Rohr CFM56-5A/-5B Service Bulletin RA32078-112, dated October 22, 2001, is acceptable for compliance with the applicable requirements of this AD.

Parts Installation

(d) As of the effective date of this AD, no person may install, on any airplane, an actuator of the thrust reverser blocker door having a part number and serial number listed in paragraph 1.A.(1) of Rohr CFM56-5A/-5B Service Bulletin RA32078-112, Revision 1, dated February 6, 2002, unless the actuator has been reworked in accordance with the service bulletin.

Alternative Methods of Compliance

(e) In accordance with 14 CFR 39.19, the Manager, International Branch, ANM-116, FAA, Transport Airplane Directorate, is authorized to approve alternative methods of compliance for this AD.

Note 2: The subject of this AD is addressed in French airworthiness directive 2002-337(B) R1, dated July 24, 2002.

Issued in Renton, Washington, on March 3, 2004.
Ali Bahrami,
Acting Manager, Transport Airplane Directorate, Aircraft Certification Service.

[FR Doc. 04-5447 Filed 3-10-04; 8:45 am]

BILLING CODE 4910-13-P